DEPARTMENT OF HEALTH AND HUMAN SERVICES

Centers for Medicare & Medicaid Services

42 CFR Part 422

[CMS-4185-N2]

Medicare Program; Release of Data Underlying Risk Adjustment Data Validation Provisions

AGENCY: Centers for Medicare & Medicaid Services (CMS), HHS.

ACTION: Proposed rule; supplement.

SUMMARY: This document announces the release of data underlying the proposed policies regarding the use of extrapolation in Medicare Advantage (MA) Risk Adjustment Data Validation (RADV) audits and the Fee-for-Service (FFS) Adjuster.

DATES: The data announced in this supplement is available on March 1, 2019.

ADDRESSES: The LDS DUA request forms and instructions are available via the CMS website at https://www.cms.gov/Research-Statistics-Data-and-Systems/Files-for-Order/LimitedDataSets/. Additional documentation and data related to the RADV FFS Adjuster Study is posted on the Private Plans Team website at https://www.cms.gov/Research-Statistics-Data-and-Systems/Monitoring-Programs/Medicare-Risk-Adjustment-Data-Validation-Program/Resources.html.

FOR FURTHER INFORMATION CONTACT: Jonathan Smith, (410) 786-4671 or Joanne Davis, (410) 786-5127.

SUPPLEMENTARY INFORMATION:

I. Background

In the November 1, 2018 Federal Register (83 FR 54982), we published a proposed rule titled “Medicare and Medicaid Programs; Policy and Technical Changes to the Medicare Advantage (MA), Medicare Prescription Drug Benefit, Program of All-Inclusive Care for the Elderly (PACE), Medicaid Fee-For-Service, and Medicaid Managed Care Programs for Years 2020 and 2021”. The proposed rule included preamble language and regulatory provisions regarding the proposed MA Risk Adjustment Data Validation (RADV) audit methodology, and the proposal not to apply a Fee-For-Service (FFS) Adjuster (83 FR 55037 through 55041 and 55077). Prior to the release of the proposed rule, we posted a FFS Adjuster Study on October 26, 2018.

In the December 27, 2018 Federal Register (83 FR 66661), we published a document stating that we planned on releasing data underlying the FFS Adjuster Study and extending the comment period for the RADV provisions to April 30, 2019, in order to maximize the opportunity for the public to provide meaningful input to CMS.

II. Provisions of the Supplement

This document announces that data, underlying our proposal not to apply a RADV FFS Adjuster, is available to the public through the Office of Enterprise Data Analytics (OEDA). Persons or entities requesting the data must complete and submit a Limited Data Set (LDS) Data Use Agreement (DUA) along with the required fee to CMS. The LDS DUA request forms and instructions are available via the CMS website at https://www.cms.gov/Research-Statistics-Data-and-Systems/Files-for-Order/LimitedDataSets/. Lastly, additional documentation and data related to the RADV FFS Adjuster Study is posted on the Private Plans Team website at https://www.cms.gov/Research-Statistics-Data-and-Systems/Monitoring-Programs/Medicare-Risk-Adjustment-Data-Validation-Program/Resources.html.

We are releasing these data so the public can both provide meaningful comments regarding the proposed RADV provisions in the November 2018 proposed rule (83 FR 55037 through 55041 and 55077) and generate information that will be useful to the agency's decision makers. Our ability to meaningfully evaluate and respond to comments may depend on the extent to which commenters disclose any methodologies, statistical analyses, audit findings, and other factors underlying the comments.

III. Collection of Information Requirements

This document does not impose information collection requirements, that is, reporting, recordkeeping or third-party disclosure requirements. Consequently, there is no need for review by the Office of Management and Budget under the authority of the Paperwork Reduction Act of 1995 (44 U.S.C. 3501 et seq.).

Dated: February 28, 2019.
Seema Verma,
Administrator, Centers for Medicare & Medicaid Services.

[FR Doc. 2019-04052 Filed 3-4-19; 11:15 am]

BILLING CODE 4120-01-P